DEPARTMENT OF COMMERCE

National Institute of Standards and Technology

Notice of Government Owned Inventions Available for Licensing

AGENCY: National Institute of Standards and Technology, Commerce.

SUMMARY: The inventions listed below are owned in whole by the U.S. Government, as represented by the Department of Commerce. The inventions are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188 , fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 02-008D]

Title: Method for Selective Electroless Attachment of Contacts to Electrochemically-active Molecules.

Abstract: A solution-based method for attaching metal contacts to molecular films is described. The metal contacts are attached to functional groups on individual molecules in the molecular film. The chemical state of the functional group is controlled to induce electroless metal deposition preferentially at the functional group site. The functionalized molecules may also be patterned on a surface to give spatial control over the location of the metal contacts in a more complex structure. Spatial control is limited only by the ability to pattern the molecular film. To demonstrate the feasibility of this concept, self-assembled monolayers of model, molecular-electronic compounds have been prepared on gold surfaces, and these surfaces were subsequently exposed to electroless deposition plating baths. These samples exhibited selective metal contact attachment, even on patterned surfaces.

[NIST Docket Number: 04-018US]

Title: Portable LED-illuminated Radiance Source.

Abstract: With the development of light-emitting diodes (LED) at many different wavelengths, compact, quasi-monochromatic sources can be developed for radiometric uses. Temporally stable, spatially uniform and radiometically calibrated sources are needed in many different applications. Instead of using large integrating sphere sources, such radiance sources can also be used to measure the size-of-source effect (SSE) in radiation thermometers. These compact sources can be used for both initial characterizations and for periodic measurements to determine that the SSE has not changed. This invention provides the design, construction, and characterization of a LED-based radiance source (LRS). The performance of the LRS including spatial uniformity, temporal stability, spectral stability, and radiance are addressed. Different diffuser materials are assessed for spatial and angular uniformity.

Dated: October 19, 2005.
William Jeffrey,
Director.

[FR Doc. 05-21286 Filed 10-24-05; 8:45 am]

BILLING CODE 3510-13-P